DEPARTMENT OF COMMERCE

National Oceanic and Atmospheric Administration

RIN 0648-XK01

North Pacific Fishery Management Council; Public Meeting

AGENCY: National Marine Fisheries Service (NMFS), National Oceanic and Atmospheric Administration (NOAA), Commerce.

ACTION: Notice of a public meeting.

SUMMARY: The North Pacific Fishery Management Council's Crab Plan Team (CPT) will meet in Seattle, WA.

DATES: The meeting will be held on September 16-18, 2008, from 9 a.m. to 5 p.m.

ADDRESSES: Alaska Fishery Science Center, 7600 Sand Point Way NE. Bldg 4, Observer Room, Seattle, WA 98115.

Council address: North Pacific Fishery Management Council, 605 W. 4th Avenue, Suite 306, Anchorage, AK 99501-2252.

FOR FURTHER INFORMATION CONTACT: Diana Stram, North Pacific Fishery Management Council; telephone: (907) 271-2809.

SUPPLEMENTARY INFORMATION: The Plan Team will address the following issues: Overview of Crab Rationalization program; discussion of Economic Data review issues; summary of 3-year review documentation for Crab Rationalization Program; Structure and content for Economic Stock Assessment Fishery Evaluation Report (SAFE); NMFS 2008 summer trawl survey overview; NMFS catch accounting data; handling mortality rates utilized for Crab, Groundfish, and Scallop fisheries; Stock assessment overviews for Eastern Bering Sea snow crab, Bristol Bay red king crab, Eastern Bering Sea Tanner crab, St. Mathew Blue king crab, Norton Sound red king crab, Aleutian Island golden king crab, Pribilof Island red and golden king crab; Adak red king crab.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305 ( c ) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 25, 2008.
Tracey L. Thompson,
Acting Director, Office of Sustainable Fisheries, National Marine Fisheries Service.

[FR Doc. E8-19953 Filed 8-27-08; 8:45 am]

BILLING CODE 3510-22-S